ENVIRONMENTAL PROTECTION AGENCY

[EPA-HQ-OPP-2009-0628 and 2009-0825; FRL-8801-4]

Pesticides; Draft Guidance for Pesticide Registrants on Pesticide Drift Labeling and Petition to Protect Children from Pesticide Drift; Notices of Availability; Extension of Comment Period

AGENCY: Environmental Protection Agency (EPA).

ACTION: Notice; extension of comment period.

SUMMARY: EPA issued two related notices in the Federal Register of November 4, 2009, one concerning draft guidance on pesticide drift labeling, and one on a petition submitted to the Agency for protecting children from pesticide drift. Both notices announced the availability of the source documents and opened public comment periods of 60 days (until January 4, 2010). Today’s notice extends the comment period on both notices for an additional 60 days, from January 4, 2010 to March 5, 2010.

DATES: Comments, identified by the docket identification (ID) number EPA-HQ-OPP-2009-0628 and EPA-HQ-OPP-2009-0825, must be received on or before March 5, 2010.

ADDRESSES: Follow the detailed instructions as provided under ADDRESSES in the Federal Register documents of November 4, 2009.

FOR FURTHER INFORMATION CONTACT: For EPA-HQ-OPP-2009-0628, Veronique LaCapra, Pesticide Re-evaluation Division (7508P), Office of Pesticide Programs, Environmental Protection Agency, 1200 Pennsylvania Ave., NW., Washington, DC 20460-0001; telephone number: 703-605-1525; e-mail address: lacapra.veronique@epa.gov.

For EPA-HQ-OPP-2009-0825, Jill Bloom, Pesticide Re-evaluation Division (7508P), Office of Pesticide Programs, Environmental Protection Agency, 1200 Pennsylvania Ave., NW., Washington, DC 20460-0001; telephone number: 703-308-8019; e-mail address: bloom.jill@epa.gov.

SUPPLEMENTARY INFORMATION: This document extends the public comment periods established in the Federal Register of November 4, 2009 (74 FR 57166) (FRL-8794-9) and (74 FR 57168) (FRL-8797-4). In both documents, comment periods of 60 days were established. Subsequent to publication, a number of stakeholders requested the extension of the original comment periods, citing potential delays due to the intervening holidays and the volume of material in the two dockets. The Agency agrees that an extension is warranted and is hereby extending the comment periods, which were set to end on January 4, 2010, for a period of 60 days, to March 5, 2010.

To submit comments, or access the docket, please follow the detailed instructions as provided under ADDRESSES in the November 4, 2009 Federal Register documents; the notice of availability - EPA-HQ-OPP-2009-0628; FRL-8794-9 and the petition - EPA-HO-OPP-2009-0825; FRL-8797-4. If you have questions, consult the persons listed under FOR FURTHER INFORMATION CONTACT.

List of Subjects

Environmental protection, Administrative practice and procedure,Agricultural commodities, Earthjustice, Environmental Justice, Farmworker Justice, Labeling, Pesticides and pests, Pesticide drift, Spray drift.

Dated: November 25, 2009.
Richard P. Keigwin, Jr.,
Director, Pesticide Re-evaluation Division, Office of Pesticide Programs.

[FR Doc. E9-29069 Filed-12-8-09; 8:45 am]

BILLING CODE 6560-50-S